DEPARTMENT OF COMMERCE

National Oceanic and Atmospheric Administration

Notice of Availability of Final Guidance on Designation of New Regional Ocean Partnerships

AGENCY: Office for Coastal Management, National Ocean Service, National Oceanic and Atmospheric Administration (NOAA), U.S. Department of Commerce.

ACTION: Notice of availability of final guidance regarding the designation of new regional ocean partnerships.

SUMMARY: Under the James M. Inhofe National Defense Authorization Act for Fiscal Year 2023 (NDAA), coastal States (including Puerto Rico, the United States Virgin Islands, Guam, the Commonwealth of the Northern Mariana Islands, the Trust Territories of the Pacific Islands, and American Samoa), Indian Tribes (as defined in the final guidance), and other entities may form new partnerships and apply to NOAA (as delegated) for designation as a regional ocean partnership (ROP). ROPs coordinate the management of ocean, coastal, and Great Lakes resources. After inviting Tribal consultation and careful consideration of public comments, NOAA announces the final guidance on designating new ROPs under the NDAA.

ADDRESSES: Copies of the final designation guidance document may be found on NOAA's Office for Coastal Management website at https://coast.noaa.gov/data/coasthome/funding/_pdf/rop-designation-guidance-final.pdf.

A summary of comments received and NOAA's responses to the comments may be found at: https://coast.noaa.gov/data/coasthome/funding/_pdf/rop-designation-guidance-comments.pdf.

FOR FURTHER INFORMATION CONTACT: Joshua Lott, Office for Coastal Management, NOS, NOAA, 1305 East-West Highway, Silver Spring, Maryland, 20910; ATTN: Regional Ocean Partnership Designation Guidance. Phone: (202) 670-3826; or Email: rop.iija@noaa.gov.

SUPPLEMENTARY INFORMATION: ROPs are regional organizations voluntarily convened by coastal States and Indian Tribes, and designated by NOAA, as delegated, per the NDAA, to coordinate the management of ocean, coastal, and Great Lakes resources. These partnerships work in collaboration with other governments (including Tribal, Federal, and local) and stakeholders to address ocean and coastal issues of common concern in that region.

There are four existing ROPs: the Gulf of Mexico Alliance, the Northeast Regional Ocean Council, the Mid-Atlantic Regional Council on the Ocean, and the West Coast Ocean Alliance. Section 10102(b)(3) of the NDAA, codified at 16 U.S.C. 1468(b)(3), designates these four entities as regional ocean partnerships; as such, the designation guidance and application process for new partnerships does not apply to them.

The final designation guidance includes elements, specified in the NDAA, that must be included in an application for a new ROP; the manner in which the application must be submitted to NOAA; and funding eligibility for new ROPs. Applications for new ROPs must identify the members that will comprise the new ROP, identify the governing body of the new ROP, identify the purposes and functions of the new ROP, and be formally submitted by all state governors and Tribal government leaders.

Authority: 16 U.S.C. 1468.

Jeffrey L. Payne,
Director, Office for Coastal Management, National Ocean Service, National Oceanic and Atmospheric Administration.

[FR Doc. 2025-01163 Filed 1-16-25; 8:45 am]

BILLING CODE 3510-08-P